DEPARTMENT OF LABOR

Employee Benefits Security Administration

148th Meeting of the Advisory Council on Employee Welfare and Pension Benefit Plans; Notice of Meeting

Pursuant to the authority contained in Section 512 of the Employee Retirement Income Security Act of 1974 (ERISA), 29 U.S.C. 1142, the Advisory Council on Employee Welfare and Pension Benefit Plans will hold a public teleconference meeting on September 29, 2009.

The meeting will take place in Room N3437 A-B, U.S. Department of Labor, 200 Constitution Avenue, NW., Washington, DC 20210. Public access is available only in this room (i.e. not by telephone). The meeting will run from 11:30 a.m. to approximately 5:30 p.m. The purpose of the open meeting is to discuss reports/recommendations for the Secretary of Labor on the issues of (1) Stable Value Funds and Retirement Security in the Current Economic Conditions, (2) Promoting Retirement Literacy and Security by Streamlining Disclosures to Participants and Beneficiaries, and (3) Approaches for Retirement Security in the United States. Descriptions of these topics are available on the Advisory Council page of the EBSA Web site at http://www.dol.gov/ebsa/aboutebsa/erisa_advisory_council.html.

Organizations or members of the public wishing to submit a written statement pertaining to the topic may do so by submitting 30 copies on or before September 22, 2009 to Larry Good, Executive Secretary, ERISA Advisory Council, U.S. Department of Labor, Suite N-5623, 200 Constitution Avenue NW., Washington, DC 20210. Statements also may be submitted as e-mail attachments in text or pdf format transmitted to good.larry@dol.gov. It is requested that statements not be included in the body of the e-mail. Statements received on or before September 22, 2009 will be included in the record of the meeting. Individuals or representatives of organizations wishing to address the Advisory Council should forward their requests to the Executive Secretary or telephone (202) 693-8668. Oral presentations will be limited to 10 minutes, time permitting, but an extended statement may be submitted for the record. Individuals with disabilities who need special accommodations should contact Larry Good by September 22 at the address indicated.

Signed at Washington, DC, this 10th day of September, 2009.
Michael L. Davis,
Deputy Assistant Secretary, Employee Benefits Security Administration.

[FR Doc. E9-22108 Filed 9-11-09; 8:45 am]

BILLING CODE 4510-29-P